DEPARTMENT OF TRANSPORTATION

Federal Aviation Administration

14 CFR Part 39

[Docket No. FAA-2006-26231; Directorate Identifier 2006-CE-61-AD; Amendment 39-14985; AD 2007-06-04]

RIN 2120-AA64

Airworthiness Directives; EADS SOCATA Model TBM 700 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as two fatigue failures of flap carriage rollpins that occurred on in-service airplanes. We are issuing this AD to require actions to correct the unsafe condition on these products.

DATES: This AD becomes effective April 19, 2007.

The Director of the Federal Register approved the incorporation by reference of certain publications listed in this AD as of April 19, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Albert J. Mercado, Aerospace Engineer, FAA, Small Airplane Directorate, 901 Locust, Room 301, Kansas City, Missouri 64106; telephone: (816) 329-4119; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on December 26, 2006 (71 FR 77310). That NPRM proposed to correct an unsafe condition for the specified products. The MCAI states reports of two fatigue failures of flap carriage rollpins that occurred on in-service airplanes. The MCAI requires inspecting and applying torque values to the rollpins nuts.

Comments

We gave the public the opportunity to participate in developing this AD. We considered the comments received.

Comment Issue No. 1: Use Consistent Language

Raymond S. Benischeck comments on this AD due to the fact there is inconsistent language regarding the identification of the part in question. The commenter states:

In portions of the NPRM we are told to inspect for a fracture of the flap carriage “ROLLPINS.” Elsewhere, the correct terminology “ROLLER PINS” is used. The correct terminology should be used throughout the document.

The terminology used within the Discussion and Reason sections was copied directly from the associated MCAI. We are currently trying to use the language provided to us by the foreign airworthiness authority whenever possible. For consistency, we will change the phrase “roller pin” to “rollpin” in the final rule AD action to coincide with the MCAI.

We are changing the final rule AD action based on this comment.

Comment Issue No. 2: Clarify Paragraph (e)(1) of the Proposed AD

Raymond S. Benischeck comments that clarification may be necessary in paragraph (e)(1) of the proposed AD in which instructions are given to check for correct torque of the roller pin. Although applying correct torque should reveal any discrepancies in this roller pin, the actual inspection is for the purposes of detecting broken rollpins.

The instructions to do the actions stated in paragraph (e)(1) of the proposed AD are included in the referenced service bulletins. The AD mandates use of these instructions to comply with the AD.

We are not changing the final rule AD action based on this comment.

Comment Issue No. 3: Clarify Paragraph (e)(4) of the Proposed AD

Raymond S. Benischeck comments that a question arises regarding paragraph (4) of the proposed AD. Will aircraft in compliance with SB 70-138 still be required to perform the initial inspection before terminating action is considered to be in place? The statement “no further action is required” could be confusing since it seems to indicate at least one inspection for rollpin torque has been accomplished. If these aircraft are exempt from the inspection portion, the exception might better be noted in the serial number applicability portion in paragraph (c) of the proposed AD.

Both the MCAI and this AD state to do the action following SB70-122, which specifies in the Compliance section that those airplanes in compliance with SB 70-138 are not affected. In paragraph (e)(4) of the proposed AD, we restated this information. If we put the statement in the Applicability section, we would also have to add a statement about compliance with SB70-122 for consistency. We usually do not reference in the Applicability section that the AD exempts those airplanes that have already complied with the service bulletin we are referencing in the AD. We have determined that the phrase “unless already done” in the AD, as well as the statement in paragraph (e)(4) of the proposed AD, sufficiently communicates the necessary information.

We are not changing the final rule AD action based on this comment.

Comment Issue No. 4: Update Costs of Compliance

EADS Socata comments the proposed AD specifies that required parts would cost about $100. Application of SB70-122 requires 4 cotter pins. This cost is negligible.

EADS Socata also comments the proposed AD specifies that it would take about 1 work-hour per product. EADS Socata estimates that it would take 0.5 work-hour per product to inspect all flap inboard carriage rollpins.

We agree with the commenter. We will change the Costs of Compliance section to reflect the above figures, using a work-hour number of 0.5 and a cost of parts number of $5 (negligible).

We are changing the final rule AD action based on this comment.

Comment Issue No. 5: Change the Applicability Section and Incorporate Revised Service Information

EADS Socata comments the proposed AD applies to Model TBM700 airplanes, serial numbers 1 through 268, and 270 through 327. But SB70-122, Amendment 1, applies only to Model TBM700 airplanes, serial numbers 1 through 268, and 270 through 327, totaling more than 2,500 landings.

Moreover, due to a new occurrence, EADS Socata has decided to lower this threshold to 1,500 landings and issued Amendment 2 of SB70-122, which includes this new threshold.

The AD should be modified to incorporate the revised service information and change the Applicability section to read as follows: This AD applies to Model TBM700 airplanes, serial numbers 1 through 268, and 270 through 327, totaling more than 1,500 landings.

We acknowledge the above compliance time. However, we did not incorporate a threshold into the NPRM. We used the compliance time of 100 hours time-in-service for all affected airplanes based on the type of condition and the fact that the torque value of the rollpins could be incorrect regardless of the amount of hours on the airplane.

The instructions for doing the actions required by this AD are the same in Amendment 1 and Amendment 2 of SB70-122; therefore, we will incorporate by reference Amendment 2 of SB70-122 into the final rule AD action.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow FAA policies. Any such differences are described in a separate paragraph of the AD. These requirements, if any, take precedence over the actions copied from the MCAI.

Costs of Compliance

We estimate that this AD will affect 221 products of U.S. registry. We also estimate that it will take about .5 work-hours per product to comply with this AD. The average labor rate is $80 per work-hour. Required parts will cost about $5 (neglible) per product. Where the service information lists required parts costs that are covered under warranty, we have assumed that there will be no charge for these parts. As we do not control warranty coverage for affected parties, some parties may incur costs higher than estimated here. Based on these figures, we estimate the cost of this AD to the U.S. operators to be $9,945 or $45 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-06-04 EADS SOCATA: Amendment 39-14985; Docket No. FAA-2006-26231; Directorate Identifier 2006-CE-61-AD.

Effective Date

(a) This airworthiness directive (AD) becomes effective April 19, 2007.

Affected ADs

(b) None.

Applicability

(c) This AD applies to Model TBM 700 airplanes, serial numbers 1 through 268, and 270 through 327, certificated in any category.

Reason

(d) The mandatory continuing airworthiness information (MCAI) states reports of two fatigue failures of flap carriage rollpins that occurred on in-service airplanes.

Actions and Compliance

(e) Unless already done, do the following actions.

(1) Within the next 100 hours time-in-service (TIS) after April 19, 2007 (the effective date of this AD), inspect all flap inboard carriage rollpins for proper torque values and correct as necessary before further flight.

(2) Repeat these inspections thereafter at intervals not to exceed 100 hours TIS and correct as necessary before further flight after the inspection in which a correction is necessary.

(3) Accomplish these actions according to the instructions given in EADS SOCATA TBM Aircraft Mandatory Service Bulletin SB 70-122, Amendment 1, dated March 2006, or EADS SOCATA TBM Aircraft Mandatory Service Bulletin SB 70-122, Amendment 2, dated January 2007, and the applicable maintenance manual.

(4) If both flap inboard carriages have been replaced following EADS SOCATA TBM Aircraft Mandatory Service Bulletin SB 70-138, dated March 2006, no further action is required. Make an entry in the logbook to show compliance with this AD.

FAA AD Differences

Note: This AD differs from the MCAI and/or service information as follows: No differences.

Other FAA AD Provisions

(f) The following provisions also apply to this AD:

(1) Alternative Methods of Compliance (AMOCs): The Manager, Standards Staff, FAA, Small Airplane Directorate, ATTN: Albert J. Mercado, Aerospace Engineer, 901 Locust, Room 301, Kansas City, Missouri 64106; telephone: (816) 329-4119; fax: (816) 329-4090, has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI Direction générale de l'aviation civile AD No. F-2005-017, Issue date: January 19, 2005, for related information.

Material Incorporated by Reference

(i) You must use EADS SOCATA TBM Aircraft Mandatory Service Bulletin SB 70-122, Amendment 1, dated March 2006, or EADS SOCATA TBM Aircraft Mandatory Service Bulletin SB 70-122, Amendment 2, dated January 2007, to do the actions required by this AD, unless the AD specifies otherwise.

(1) The Director of the Federal Register approved the incorporation by reference of this service information under 5 U.S.C. 552(a) and 1 CFR part 51.

(2) For service information identified in this AD, contact EADS SOCATA, Direction des Services, 65921 Tarbes Cedex 9, France; telephone: 33 (0)5 62 41 73 00; fax: 33 (0)5 62 41 76 54; or SOCATA AIRCRAFT, INC., North Perry Airport, 7501 South Airport Rd., Pembroke Pines, FL 33023; telephone: (954) 893-1400; fax: (954) 964-4141.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on March 6, 2007.
Kim Smith,
Manager, Small Airplane Directorate, Aircraft Certification Service.

[FR Doc. E7-4383 Filed 3-14-07; 8:45 am]

BILLING CODE 4910-13-P